DEPARTMENT OF VETERANS AFFAIRS

Veterans' Disability Benefits Commission; Notice of Meeting

The Department of Veterans Affairs (VA) gives notice under Public Law 92-463 (Federal Advisory Committee Act) that the Veterans' Disability Benefits Commission has scheduled a town hall meeting for March 6, 2006, at the Henry B. Gonzalez Convention Center, 200 E. Market St., San Antonio, Texas. The town hall meeting will begin at 7 p.m. and end at 9 p.m. The meeting is open to the public.

The purpose of the Commission is to carry out a study of the benefits under the laws of the United States that are provided to compensate and assist veterans and their survivors for disabilities and deaths attributable to military service.

The Commission is conducting the second of eight fact-finding, data-gathering site visits throughout the United States. The San Antonio area was selected based on criteria that included the concentration of veterans, active-duty service members and National Guard and Reserves, and the location of Veterans Benefits Administration, Veterans Health Administration, and Department of Defense (DoD) facilities, with particular interest in transition activities. The goal of this visit is to allow the commissioners the opportunity to tour local Department of Veterans Affairs (VA) and DoD facilities; examine the processes in place which assist disabled veterans and service members, and survivors in their efforts to obtain benefits and to present these individuals and the general public with an opportunity to learn about the work of the Commission and to offer comments in face-to-face forums.

Interested persons may attend the meeting and present oral statements to the Commission. Oral presentations will be limited to five minutes or less, depending on the number of participants. Interested parties may provide written comments for review by the Commission prior to the meeting or at any time, by e-mail to veterans@vetscommission.intranets.com or by mail to Mr. Ray Wilburn, Executive Director, Veterans' Disability Benefits Commission, 1101 Pennsylvania Avenue, NW., 5th Floor, Washington, DC 20004.

Dated: February 10, 2006.
By Direction of the Secretary.
E. Philip Riggin,
Committee Management Officer.

[FR Doc. 06-1515 Filed 2-16-06; 8:45 am]

BILLING CODE 8320-01-M